DEPARTMENT OF ENERGY

Federal Energy Regulatory Commission

[Project Nos. 11933-001, 11935-001 and 11938-001]

Bliss-Gooding Highway Hydropower, Inc., et al.; Notice of Surrender of Preliminary Permits

November 14, 2003.

Take notice that the permittees for the subject projects have requested to surrender their preliminary permits. Sufficient preliminary engineering and financial studies have determined that the projects would not be economically feasible.

Project No. | Project Name | Stream | State | Expiration date
11933-001 | Bliss-Gooding Highway | Malad River | ID | 09-30-2004
11935-001 | Inlet Project | Jim Byrns Slough | ID | 11-30-2004
11938-001 | Y Canal | N. Side Canal Company irrigation system | ID | 08-31-2004

The permits shall remain in effect through the thirtieth day after issuance of this notice unless that day is Saturday, Sunday, or holiday as described in 18 CFR 385.2007, in which case each permit shall remain in effect through the first business day following that day. New applications involving these project sites, to the extent provided for under 18 CFR Part 4, may be filed on the next business day.

Magalie R. Salas,
Secretary.

[FR Doc. E3-00341 Filed 11-20-03; 8:45 am]

BILLING CODE 6717-01-P